TENNESSEE VALLEY AUTHORITY

Supplemental Environmental Impact Statement for a Single Nuclear Unit at the Bellefonte Site

AGENCY: Tennessee Valley Authority.

ACTION: Notice of Intent.

SUMMARY: This notice of intent (NOI) is provided in accordance with the Council on Environmental Quality's regulations (40 CFR parts 1500-1508) and Tennessee Valley Authority's (TVA) procedures for implementing the National Environmental Policy Act (NEPA). TVA will prepare a Supplemental Environmental Impact Statement (SEIS) to update information in the 1974 Final Environmental Statement for Bellefonte Nuclear Plant Units 1 and 2 (1974 FES) and other pertinent environmental reviews, in order to address the potential environmental impacts associated with its proposal to operate a single nuclear generation unit at the Bellefonte Nuclear Plant (BLN) site located in Jackson County, Alabama. Currently, there are two partially constructed units at the BLN site. TVA may choose to complete and operate either one of these partially constructed units or construct and operate one new technology unit. Operation of one nuclear unit capable of producing approximately 1,100 megawatts (MW) of power would help address the need for additional base load generation in the TVA power service area; meet TVA's goal to have at least 50 percent of its generation portfolio comprised of low or zero carbon-emitting sources by the year 2020; and make beneficial use of existing assets at the BLN site.

DATES: Comments on the draft SEIS will be invited from the public. It is anticipated that the draft SEIS will be available in fall 2009. A notice of availability of a draft SEIS will be published in the Federal Register, as well as announced in the local news media.

ADDRESSES: Information about the SEIS may be obtained by contacting Ruth M. Horton, Senior NEPA Specialist, Tennessee Valley Authority, 400 West Summit Hill Drive, Mail Stop WT 11D, Knoxville, Tennessee 37902; by e-mailing to blnp@tva.gov; or by visiting the project Web site at http://www.tva.gov/blnp.

FOR FURTHER INFORMATION CONTACT: For information about nuclear plant construction and operation, contact Andrea Sterdis, Nuclear Generation Development and Construction, Tennessee Valley Authority, 1101 Market Street, Mail Stop LP 5A, Chattanooga, Tennessee 37402 (e-mail: alsterdis@tva.gov).

SUPPLEMENTARY INFORMATION:

TVA Power System

TVA is an agency and instrumentality of the United States, established by an act of Congress in 1933, to foster the social and economic welfare of the people of the Tennessee Valley region and to promote the proper use and conservation of the region's natural resources. One component of this mission is the generation, transmission, and sale of reliable and affordable electric energy. TVA operates the nation's largest public power system, producing 4 percent of all electricity in the nation. TVA provides electricity to most of Tennessee and parts of Virginia, North Carolina, Georgia, Alabama, Mississippi, and Kentucky. It serves about 9 million people in this seven-state region through 158 power distributors and 58 directly served large industries and federal facilities. The TVA Act requires the TVA power system to be self-supporting and operated on a nonprofit basis, and the TVA Act directs TVA to sell power at rates as low as are feasible.

Dependable capacity on the TVA power system is about 37,000 MW. TVA generates most of this power with three nuclear plants, 11 coal-fired plants, nine combustion-turbine plants, a combined-cycle plant, 29 hydroelectric dams, a pumped-storage facility, a wind farm, a methane-gas cofiring facility, and several small renewable generating facilities. A portion of delivered power is obtained through long-term power purchase agreements. About 60 percent of TVA's annual generation is from fossil fuels, predominantly coal; 30 percent is from nuclear; and the remainder is from hydro and other renewable energy resources. TVA transmits electricity from these facilities over almost 16,000 miles of transmission lines. Like other utility systems, TVA has power interchange agreements with utilities surrounding the Tennessee Valley region and purchases and sells power on an economic basis almost daily.

In the mid-1990s, TVA developed an Integrated Resource Plan (IRP) with extensive public involvement. This process was completed with publication of the Energy Vision 2020 Integrated Resource Plan and Final Environmental Impact Statement (IRP/FEIS) in 1995 and the associated record of decision (ROD) in 1996. Based on the extensive evaluation, TVA decided to adopt a flexible portfolio of supply- and demand-side energy resource options to meet the growing demand for electricity in the region and achieve the goals of the TVA Act and other congressional directives. The portfolio of alternatives analyzed in the IRP/FEIS encompassed the current proposal to complete one nuclear unit at the BLN site. On June 15, 2009, TVA announced its intent to conduct a new comprehensive study and environmental impact statement (EIS) entitled the Integrated Resource Plan. The proposal set out in this NOI also supports TVA's goal of reducing its carbon footprint by 2020 and the need to make beneficial use of the existing infrastructure at the BLN site.

Bellefonte Nuclear Plant

The BLN site is located in northeast Alabama on 1,600 acres adjacent to the Tennessee River at Mile 392, near the cities of Hollywood and Scottsboro in Jackson County. The site includes two partially completed Babcock and Wilcox (B&W) pressurized water reactors known as BLN Units 1 and 2 (BLN 1&2), with a capacity of about 1,200 MW each. The then Atomic Energy Commission (now called the Nuclear Regulatory Commission or NRC) issued construction permits for BLN 1&2 on December 24, 1974. When TVA halted construction activities in 1988, in response to decreased power demand, BLN 1 was approximately 90 percent compete, and BLN 2 was approximately 58 percent complete.

TVA maintained the plant in deferred status until November 2005, when TVA's Board of Directors approved the cancellation of BLN 1&2 in order to facilitate consideration of the BLN site for other possible uses. TVA submitted a Site Redress Plan to the NRC, along with a request for withdrawal of the construction permits. Under the redress plan, TVA maintained environmental permits and equipment associated with ongoing activities at BLN, including a training center and a substation. The construction permits were withdrawn by the NRC in September 2006. Subsequent asset recovery activities, along with more recent inspections of remaining equipment, resulted in BLN 1&2 now being considered approximately 55 percent and 35 percent complete, respectively.

In 2006, TVA joined NuStart Energy Development LLC (NuStart), a consortium of 10 utility companies and two reactor vendors, to demonstrate the feasibility of processing a combined construction and operating license application (COLA) under 10 CFR Part 52 and to complete the design engineering for the Westinghouse AP1000 advanced design for a pressurized water reactor. Preliminary designs for two new reactors at BLN, known as Units 3 and 4 (BLN 3&4), were developed as part of the application process. In choosing the BLN 3&4 proposal as a COLA candidate, NuStart recognized that a substantial portion of the existing BLN 1&2 equipment and ancillary structures (e.g., cooling towers, intake structure, transmission switchyards) could be used to support such a new facility and that their use could reduce the cost of new construction. The COLA for BLN 3&4 was submitted to the NRC in October 2007 with TVA as the applicant of record. The COLA described the siting of two AP1000 reactors with an estimated thermal reactor power level of 3,400 MW and a net electrical output of at least 1,100 MW from each reactor. Although TVA is the applicant of record for the NuStart demonstration, TVA has not decided to construct these advanced reactors at the BLN site.

In August 2008, in response to changes in power generation economics since 2005 and the possible effects of constraints on the availability of the worldwide supply of components needed for new generation development, TVA requested reinstatement of the construction permits for BLN 1&2. Reinstatement would allow TVA to return the units to deferred status; resume preservation and maintenance activities; and determine whether the completion of construction and operation of the units would be a viable option. The NRC reinstated TVA's construction permits for BLN 1&2 in terminated plant status in March 2009. TVA is currently working to return the plant to deferred plant status. In addition to this current SEIS, TVA is conducting a Detailed Scoping, Estimating, and Planning (DSEP) study to further explore the feasibility of completing BLN 1 or BLN 2.

In April 2009, NuStart transferred the initial licensing efforts and reference plant designation for the AP1000 from BLN 3&4 to Southern Nuclear's Plant Vogtle. The transfer of the reference designation will help the NRC complete the reference plant licensing process sooner and help move the industry closer to new plant construction and commercial operation of the AP1000 technology. Notwithstanding the transfer of the reference plant designation to Plant Vogtle, TVA is continuing to pursue a combined operating license for BLN 3&4 to preserve future base load generation options.

Proposed Action and Alternatives

To address the need for additional low or zero carbon-emitting base load generation in the 2017 to 2020 time frame, TVA proposes to supplement the 1974 FES and other pertinent environmental reviews discussed in related documents identified below. The SEIS will evaluate the Action Alternatives of (1) completing and operating one partially completed B&W unit and (2) constructing and operating one new Westinghouse AP1000 unit. For either of these two Action Alternatives, use of the BLN site offers TVA the opportunity to maximize the value of existing assets, minimize environmental disturbance from new plant construction, and utilize licensing processes that are already underway. TVA will also consider the No Action Alternative.

Under both Action Alternatives, the existing 161-kilovolt (kV) and 500-kV switchyards constructed on the BLN site would be refurbished and reenergized; four 500-kV transmission lines that terminate in the BLN switchyard would be reestablished; the right-of-way would be brought back to current TVA standards; the capacity of nine existing transmission lines would be increased; and two 161-kV transmission lines that supply a 161-kV switchyard to provide site power would be reestablished. TVA owns and operates the regional transmission system.

No decision to build any new generating capacity at the BLN site has been made at this time. TVA is preparing this SEIS to supplement the original 1974 FES and update the information in related documents discussed below in order to inform decision makers and the public about the potential for environmental impacts associated with a decision to complete (or construct) and operate one unit at the BLN site. The draft SEIS will be made available for public comment. In making its final decision, the TVA Board will consider the assessment in this SEIS, including input provided by reviewing agencies and the public, as well as the information in the DSEP study and the cost and engineering studies for the AP1000.

Summary of Relevant Environmental Reviews

Several evaluations in the form of environmental reviews, studies, and white papers have been prepared for actions related to the construction and operation of a nuclear plant or alternative power generation source at the BLN site. As provided in the regulations (40 CFR Part 1502) for implementing NEPA, this SEIS will update, tier from, and incorporate by reference information contained in these documents about the BLN site and about nuclear plant construction and operation.

The environmental consequences of constructing and operating BLN 1&2 were addressed comprehensively in the 1974 FES. In 1993, TVA issued a white paper in support of TVA's 120-day notice to NRC for resumption of plant construction. The white paper reviewed 10 aspects of TVA's proposal in the 1974 FES that had changed or were likely to change. TVA subsequently chose not to resume construction.

Environmental conditions at the BLN site have been comprehensively reviewed three more times since 1993. The 1997 FEIS for the Bellefonte Conversion Project considered construction and operation of five types of fossil fuel generation, four of which involved plants with total electricity production capacity equivalent to BLN 1&2 (approximately 2,400 MW). The proposed combustion turbine plant was not constructed.

TVA participated as a cooperating agency with the Department of Energy (DOE) in preparing an EIS evaluating the production of tritium at one or more commercial light water reactors to ensure safe and reliable tritium supply for U.S. defense needs. The FEIS for the Production of Tritium in a Commercial Light Water Reactor addressed the completion and operation of BLN 1&2 and updated the environmental record with regard to their operation. TVA adopted this FEIS in May 2000. DOE did not select BLN for tritium production, and TVA's current proposal to complete additional generating capacity at BLN does not involve the production of tritium. The tritium production FEIS included pertinent information on spent nuclear fuel management, health and safety, decommissioning, as well as other topics.

Most recently in 2007, as a part of the COLA for BLN 3&4, TVA, as a member of the NuStart consortium, prepared and submitted a comprehensive environmental report (ER) entitled Bellefonte Nuclear Plant Units 3&4, COL Application, Part 3, Environmental Report (COLA ER), for the construction and operation of two Westinghouse AP1000 nuclear plants at the BLN site. In addition to updating the description of environmental conditions at BLN and some operational aspects related to the cooling water system, this report fully describes the environmental effects of constructing and operating BLN 3&4. It also contains a discussion of alternative sites and energy resource options.

In addition to documents directly related to the BLN site, two other TVA documents are relevant to this SEIS. First is the above-mentioned 1995 IRP/FEIS. Deferral and completion of BLN 1&2 were among the suite of alternatives evaluated in the IRP/FEIS, but not as part of the preferred alternative. This was because in the IRP's economic analyses, TVA made conservative assumptions about the capacity factor (roughly how much a unit would be able to run) achieved by nuclear units. TVA's nuclear units, consistent with U.S. nuclear industry performance, now routinely exceed this earlier assumed capacity factor, which will be taken into account in the current consideration of completing or constructing a single nuclear unit at the BLN site.

In February 2004, TVA issued the Reservoir Operations Study Programmatic Environmental Impact Statement evaluating the potential environmental impacts of alternative ways for operating the agency's reservoir system to produce overall greater public value for the people of the Tennessee Valley. This FEIS evaluated, among other things, the adequacy of the water supply necessary for reliable, efficient operation of TVA generating facilities within the operating limits of their National Pollutant Discharge Elimination System permits and other permits. A ROD for this FEIS was issued in May 2004. TVA will incorporate assumptions for reservoir operations resulting from this FEIS review in the present evaluation.

Need for Power

The proposal under consideration by TVA is to meet the demand for additional base load capacity on the TVA system and maximize the use of existing assets by either completing one of the unfinished B&W units or by constructing one new AP1000 unit. The environmental impacts of other energy resource options were evaluated as part of TVA's IRP/FEIS and in the COLA ER. This proposal also helps achieve TVA's goal to have at least 50 percent of its generation portfolio comprised of low or zero carbon-emitting sources by 2020.

Demand for energy in the TVA power service area is expected to grow at an average rate of approximately 1.1 percent per year over the next 20 years. In addition, TVA continues to set new peaks for power demand on its system, including a new all-time winter peak. TVA's current plan to meet growing demand includes a diversified expansion portfolio of market purchases (including up to 2,000 MW of renewable energy through a public request for proposal), intermediate and peaking gas-fired capacity, continued modernization of TVA's hydro plants to increase their power producing capacity, and expansion of TVA's Generation Partners Program. Combined with these actions, TVA anticipates having to add new base load capacity to its system no later than the 2017-2020 time frame. As part of this SEIS, TVA will update the Need for Power analysis, as well as consider any new environmental information.

Preliminary Identification of Environmental Issues

This SEIS will update the analyses of potential environmental, cultural, recreational, and socioeconomic impacts resulting from completion (or construction), operation, and maintenance of one nuclear unit and of reenergizing and upgrading the existing transmission system. The impact analyses will include, but not necessarily be limited to, the potential impacts on water quality and use; vegetation; wildlife; aquatic ecology; endangered and threatened species; floodplains; wetlands; land use; recreational and managed areas; visual, archaeological, and historic resources; noise; socioeconomics; solid and hazardous waste; geology and seismology; meteorology, air quality, and climate change; uranium fuels cycle effects and radiological impacts; nuclear plant safety and security including design basis accidents; and severe accidents and intentional destructive acts. Information from TVA's and NRC's previous environmental reviews (described above) relevant to the current assessment will be incorporated by reference and summarized in the SEIS.

Public and Agency Participation

This SEIS is being prepared to update information and to inform decision makers and the public about the potential environmental impacts of completing and operating a single nuclear unit at the BLN site. The SEIS process also will provide the public an opportunity to comment on TVA's analyses. Other federal, state, and local agencies and governmental entities will be asked to comment, including the U.S. Army Corps of Engineers, U.S. Fish and Wildlife Service, the Alabama Department of Environmental Management, and Alabama Department of Conservation and Natural Resources.

TVA will invite the review agencies and the public to submit written, verbal, e-mail, or online comments on the draft SEIS. It is anticipated that the draft SEIS will be released in fall 2009. Notice of availability of the draft SEIS will be published in the Federal Register, as well as announced in local news media. TVA expects to release a final SEIS in early spring 2010.

Dated: August 4, 2009.
Anda A. Ray,
Senior Vice President & Environmental Executive, Office of Environment and Research, Tennessee Valley Authority.

[FR Doc. E9-19045 Filed 8-7-09; 8:45 am]

BILLING CODE 8120-08-P